DEPARTMENT OF JUSTICE

Notice of Lodging of Consent Decree Under the Clean Water Act, Emergency Planning and Community Right-to-Know Act, and Oil Pollution Act

Notice is hereby given that on July 31, 2013, a proposed Consent Decree in United States v. Delta Fuels, Inc. and Knight Enterprises, Inc., Civil Action No. 3:13-CV-00455, was lodged with the United States District Court for the Northern District of Ohio.

In this action, the United States brought claims against Delta Fuels, Inc. and Knight Enterprises, Inc. (“Defendants”) alleging violations of Sections 311(c) and (j) of the Clean Water Act (“CWA”), 33 U.S.C. 1321(c) and (j); Section 312(a) of the Emergency Planning and Community Right-To-Know Act of 1986 (“EPCRA”), 42 U.S.C. 11022(a); and Section 1002(a) of the Oil Pollution Act, 33 U.S.C. 2702(a). The allegations in the Complaint relate to a November 25, 2005 overflow of approximately 103,000 gallons of gasoline (the “Spill”) from an aboveground storage tank at a bulk petroleum storage and distribution facility (the “Facility”) owned by Delta Fuels, Inc. The United States spent approximately $4,354,768 from the Oil Spill Liability Trust Fund responding to the Spill. In the Complaint, the United States sought reimbursement of these response costs as well as a civil penalty for alleged CWA and EPCRA violations.

The proposed Consent Decree resolves all pending claims against Defendants in this action on an ability-to-pay basis. Under the terms of the proposed Consent Decree, Defendants will reimburse the United States $1,747,500 plus interest in four annual installments. Defendants will also pay a civil penalty of $582,500 plus interest in two installments. Finally, Defendants will conduct extensive injunctive relief at the Facility designed to ensure environmental compliance.

The Department of Justice will receive for a period of thirty (30) days from the date of this publication comments relating to the Consent Decree. Comments should be addressed to the Acting Assistant Attorney General, Environment and Natural Resources Division, and either emailed to pubcomment-ees.enrd@usdoj.gov or mailed to P.O. Box 7611, U.S. Department of Justice, Washington, DC 20044-7611, and should refer to United States v. Delta Fuels, Inc. and Knight Enterprises, Inc., Civil Action No. 3:13-CV-00455 (N.D. Ohio), D.J. Ref. No. 90-5-1-1-09158.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $14.75 (25 cents per page reproduction cost) payable to the United States Treasury.

Maureen Katz,
Assistant Section Chief, Environmental Enforcement Section, Environment and Natural Resources Division.

[FR Doc. 2013-18812 Filed 8-2-13; 8:45 am]

BILLING CODE 4410-15-P